ENVIRONMENTAL PROTECTION AGENCY

[FRL-9153-1]

Science Advisory Board Staff Office; Notification To Convene Workgroups of Experts for Rapid Advice on Scientific and Technical Issues Related to the Gulf of Mexico Oil Spill

AGENCY: Environmental Protection Agency (EPA).

ACTION: Notice.

SUMMARY: The EPA Science Advisory Board (SAB) Staff Office announces it's intent to convene workgroups of experts drawn from the U.S. EPA SAB to provide rapid advice on scientific and technical issues related to the Gulf of Mexico oil spill.

FOR FURTHER INFORMATION CONTACT: Members of the public who wish to obtain information about the rapid consultative advice process and projects may contact Dr. Anthony F. Maciorowski, Deputy Director, Science Advisory Board Staff Office, by telephone at (202) 343-9983; by e-mail at maciorowski.anthony@epa.gov; or by mail at the U.S. EPA, Science Advisory Board (1400F), 1200 Pennsylvania Avenue, NW., Washington, DC 20460.

SUPPLEMENTARY INFORMATION: The SAB was established by 42 U.S.C. 4365 to provide independent scientific and technical advice, consultation, and recommendations to the EPA Administrator on the technical basis for Agency positions and regulations. The SAB Staff Office anticipates that the EPA will request rapid advice on an array of scientific and technical issues from nationally recognized scientists and engineers under the auspices of the SAB. This advice will assist the Agency in developing and implementing timely and scientifically appropriate responses to oil spill contamination in the Gulf of Mexico and along the Gulf Coast.

Workgroup members will be invited to serve based on: Their scientific and technical expertise, knowledge, and experience; availability and willingness to serve; absence of financial conflicts of interest; and scientific credibility and impartiality. Due to critical mission and schedule requirements, there is insufficient time to provide the full 15 days notice in the Federal Register prior to advisory meetings, pursuant to the final rule on Federal Advisory Committee Management codified at 41 CFR 102-3.150. Therefore, information on the workgroup consultations will be posted on the SAB Web site at http://www.epa.gov/sab as they are available.

Dated: May 13, 2010.
Vanessa T. Vu,
Director, EPA Science Advisory Board Staff Office.

[FR Doc. 2010-11987 Filed 5-18-10; 8:45 am]

BILLING CODE 6560-50-P